COMMITTEE FOR PURCHASE FROM PEOPLE WHO ARE BLIND OR SEVERELY DISABLED

Procurement List, Additions

AGENCY: Committee for Purchase From People Who Are Blind or Severely Disabled.

ACTION: Additions to the Procurement List.

SUMMARY: This action adds services to the Procurement List that will be furnished by nonprofit agencies employing persons who are blind or have other severe disabilities.

DATES: Effective Date: 6/3/2013.

ADDRESSES: Committee for Purchase From People Who Are Blind or Severely Disabled, 1401 S. Clark Street, Suite 10800, Arlington, Virginia 22202-4149.

FOR FURTHER INFORMATION CONTACT: Patricia Briscoe, Telephone: (703) 603-7740, Fax: (703) 603-0655, or email CMTEFedReg@AbilityOne.gov.

SUPPLEMENTARY INFORMATION:

Additions

On 9/23/2011 (76 FR 59117-59118) and 3/15/2013 (78 FR 16475-16476), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Laundry Refurbishment and Repair Services, Army Contracting Command, 6501 E.11 Mile Road, Warren, MI, (Off-site: 2307 Business Center Dr, Austin TX)

NPA: Travis Association for the Blind, Austin, TX.

CONTRACTING ACTIVITY: DEPT OF THE ARMY, W4GG HQ US ARMY TACOM, WARREN, MI

Service Type/Locations: Facilities Support Services, Navy Operational Support Center Fort Schuyler-Bronx, 4 Pennyfield Avenue, Bronx, NY

NPAs: Work, Incorporated, Dorchester, MA (Prime), The Corporate Source, Inc., New York, NY (Subcontractor), Navy Operational Support Center Plainville, 1 Linsley Drive, Plainville, CT

NPAs: Work, Incorporated, Dorchester, MA (Prime), Easter Seals Capital Region & Eastern Connecticut, Inc., Windsor, CT (Subcontractor), Navy Operational Support Center Quincy, 85 Sea Street, Quincy, MA

NPAs: Work, Incorporated, Dorchester, MA (Prime), Community Workshops, Inc., Boston, MA (Subcontractor), Navy Operational Support Center White River Junction, 207 Holiday Drive, White River Junction, VT

NPAs: Work, Incorporated, Dorchester, MA (Prime), Northern New England Employment Services, Portland, ME (Subcontractor), USS Constitution, Boston Navy Yard, Building 5, Charlestown, MA

NPAs: Work, Incorporated, Dorchester, MA (Prime), Morgan Memorial Goodwill Industries, Boston, MA (Subcontractor)

CONTRACTING ACTIVITY: DEPT OF THE NAVY, NAVAL FAC ENGINEERING CMD MID LANT, NORFOLK, VA

Patricia Briscoe,
Deputy Director, Business Operations (Pricing and Information Management).

[FR Doc. 2013-10495 Filed 5-2-13; 8:45 am]

BILLING CODE 6353-01-P